DEPARTMENT OF THE INTERIOR

Bureau of Land Management

[LLAK930000.L13100000.FF0000.241A; OMB Control Number 1004-0196]

Renewal of Approved Information Collection

AGENCY: Bureau of Land Management, Interior.

ACTION: 30-day notice and request for comments.

SUMMARY: The Bureau of Land Management (BLM) has submitted an information collection request to the Office of Management and Budget (OMB) to continue the collection of information from participants in the oil and gas leasing program within the National Petroleum Reserve—Alaska (NPRA). The Office of Management and Budget (OMB) has assigned control number 1004-0196 to this collection.

DATES: The OMB is required to respond to this information collection request within 60 days but may respond after 30 days. For maximum consideration written comments should be received on or before April 25, 2014.

ADDRESSES: Submit comments directly to the Desk Officer for the Department of the Interior (OMB #1004-0196), Office of Management and Budget, Office of Information and Regulatory Affairs, fax 202-395-5806, or by electronic mail at oira_submission@omb.eop.gov. Please provide a copy of your comments to the BLM.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0196” regardless of the form of your comments.

FOR FURTHER INFORMATION CONTACT: Wayne Svejnoha, 907-271-4407. Persons who use a telecommunication device for the deaf may call the Federal Information Relay Service at 1-800-877-8339, to leave a message for Mr. Svejnoha. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until the OMB approves a collection of information, you are not obligated to respond. In order to obtain and renew an OMB control number, Federal agencies are required to seek public comment on information collection and recordkeeping activities. (see 5 CFR 1320.8(d) and 1320.12(a)).

As required at 5 CFR 1320.8(d), the BLM published a 60-day notice in the Federal Register on November 18, 2013 (78 FR 69125), and the comment period closed on January 17, 2014. The BLM received no comments.

The BLM requests comments on the following subjects:

1. Whether the collection of information is necessary for the proper functioning of the BLM, including whether the information will have practical utility;

2. The accuracy of the BLM's estimate of the burden of collecting the information, including the validity of the methodology and assumptions used;

3. The quality, utility, and clarity of the information to be collected; and

4. How to minimize the information collection burden on those who are to respond, including the use of appropriate automated, electronic, mechanical, or other forms of information technology.

Please send comments to the addresses listed under ADDRESSES. Please refer to OMB Control Number 1004-0196 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Oil and Gas Leasing: National Petroleum Reserve—Alaska.

OMB Control Number: 1004-0196.

Type of Review: Extension of a currently approved information collection.

SUMMARY: This control number applies to the National Petroleum Reserve—Alaska (NPRA). In accordance with the Naval Petroleum Reserve Production Act (42 U.S.C. 6501-6508) and regulations at 43 CFR part 3130, the BLM may authorize participation in an NPRA unit agreement. Participants in such an agreement are required to comply with routine data submissions that are used to document drilling and production and ensure compliance with the unit agreement, lease terms, regulations, Onshore Oil and Gas Orders, Notices to Lessees, lease stipulations, or conditions of approval. In addition, participants in such an agreement may apply for reduction of royalty, suspension of operations or production, or a subsurface storage agreement.

Frequency of Collection: On occasion.

Estimated Annual Burden Hours: 220.

Estimated Annual Responses: 21.

Estimated Annual Non-hour Burden Cost: None.

The estimated burdens are itemized in the following table:

A. Type of response | B. Number of responses | C. Time per response | D. Total time (column B × column C)
Royalty reduction (43 CFR 3133.4) | 1 | 16 hours | 16 hours.
Suspension of operations (43 CFR 3135.3) | 1 | 4 hours | 4 hours.
Notification of operations (43 CFR 3135.6) | 2 | 15 minutes | 30 minutes.
Unit designation (43 CFR 3137.21 and 3137.23) | 1 | 80 hours | 80 hours.
Notification of unit approval (43 CFR 3137.25) | 1 | 1 hour | 1 hour.
Certification for modification (43 CFR 3137.52) | 1 | 4 hours | 4 hours.
Acceptable bonding (43 CFR 3137.60) | 1 | 30 minutes | 30 minutes.
Change of unit operator (43 CFR 3137.61) | 1 | 45 minutes | 45 minutes.
Certification of unit obligation (43 CFR 3137.70) | 1 | 2 hours | 2 hours.
Certification of continuing development (43 CFR 3137.71) | 1 | 2 hours | 2 hours.
Productivity for a participating area (43 CFR 3137.84) | 1 | 12 hours | 12 hours.
Unleased tracts (43 CFR 3137.87) | 1 | 3 hours | 3 hours.
Notification of productivity (43 CFR 3137.88) | 1 | 30 minutes | 30 minutes.
Notification of productivity for non-unit well (43 CFR 3137.91) | 1 | 30 minutes | 30 minutes.
Production information (43 CFR 3137.92) | 1 | 1 hour | 1 hour.
Lease extension (43 CFR 3137.111) | 1 | 3 hours | 3 hours.
Inability to conduct operations activities (43 CFR 3137.112) | 1 | 2 hours | 2 hours.
Unit termination (43 CFR 3137.130) | 1 | 1 hour | 1 hour.
Impact mitigation (43 CFR 3137.135) | 1 | 4 hours | 4 hours.
Storage agreement (43 CFR 3138.11) | 1 | 80 hours | 80 hours.
Totals | 21 |  | 220 hours.

Jean Sonneman,
Bureau of Land Management, Information Collection Clearance Officer.

[FR Doc. 2014-06673 Filed 3-25-14; 8:45 am]

BILLING CODE 4310-84-P